DEPARTMENT OF THE INTERIOR

Fish and Wildlife Service

Information Collection Submitted to the Office of Management and Budget for Renewal Under the Paperwork Reduction Act

AGENCY: Fish and Wildlife Service, Interior.

ACTION: Notice.

SUMMARY: The U.S. Fish and Wildlife Service has submitted the collection of information listed below to the Office of Management and Budget (OMB) for approval under the provisions of the Paperwork Reduction Act. A copy of the information collection requirement is included in this notice. Copies of the proposed information collection requirement, related forms, and explanatory material may be obtained by contacting the Service Information Collection Clearance Officer at the address listed below.

DATES: OMB has up to 60 days to approve or disapprove information collection but may respond after 30 days. Therefore, to ensure maximum consideration, you must submit comments on or before November 14, 2001.

ADDRESSES: Send comments and suggestions on specific requirements directly to the Office of Management and Budget, Office of Information and Regulatory Affairs, Attention: Department of the Interior Desk Officer, 725 17th Street, NW., Washington, DC 20503; and a copy to our Rebecca A. Mullin, Service Information Collection Clearance Officer, U.S. Fish and Wildlife Service [MS 222 ARLSQ], 4401 North Fairfax Drive, Arlington, Virginia 22203.

FOR FURTHER INFORMATION CONTACT: Rebecca A. Mullin, Service Information Collection Clearance Officer at (703) 358-2287 or electronically at rmullin@fws.gov.

SUPPLEMENTARY INFORMATION: The National Wildlife Refuge System Improvement Act of 1997 that amends the National Wildlife Refuge Administration Act of 1966 (16 U.S.C. 668 dd-ee) requires that we authorize economic privileges on any national wildlife refuge by permit only when the activity will be compatible and appropriate with the purposes for which the refuge was established. We will provide the permit applications as requested by interested citizens. We will use information provided on the required written forms and/or verbal applications to ensure that the applicant is eligible for the permit. We make provision in our general refuge regulations for public entry for specialized purposes, including economic activities such as the operation of guiding and other visitor services on refuges by concessionaire or cooperators under appropriate contractors or legal agreements or special use permits (50 CFR § 25.41 and §§ 25.61, 30.11, 31.13, and 31.16). These regulations provide the authorities and procedures for allowing permits on refuges outside of Alaska.

We use this permit to authorize such items as farming operations (haying and grazing, and beneficial management tools that we use to provide the best habitat possible on some refuges), recreational visitor service operations (outfitters/guides), commercial filming, and other commercial and noncommercial activities. Likely respondents will be individual citizens, certain corporations who wish to be considered to conduct special uses on a refuges, non-profit organizations, Federal, State, local, or Tribal governments. We will issue permits for a specific period as determined by the type and location of the use or visitor service provided.

OMB regulations at 5 CFR 1320, which implement provisions of the Paperwork Reduction Act of 1995 (Pub. L. 104-13), require that interested members of the public and affected agencies have an opportunity to comment on information collection and recordkeeping activities (see 5 CFR 1320.8(d)). We are submitting a request to OMB to renew its existing approval of the collection of information for National Wildlife Refuge System Special Use Permit for all Refuges Outside Alaska, which expires on December 31, 2001.

Federal agencies may not conduct or sponsor and a person is not required to respond to a collection of information unless it displays a currently valid OMB control number.

We previously published a 60-day notice on this information collection requirement in the Federal Register on April 26, 2001 (66 FR 21006) inviting public comment. We received no comments on that notice as of the comment close of June 25, 2001. This notice provides an additional 30 days in which to comment on the following information:

Title: National Wildlife Refuge System Special Use Permit for all Refuges Outside Alaska.

Approval Number: 1018-0102.

Service Form Number: 3-1383.

Frequency of Collection: On occasion.

Description of Respondents: Individuals and households; Business and other for-profit organizations; nonprofit institutions; Farms; and State, local or tribal governments.

Total Annual Burden Hours: We have 522 national wildlife refuges outside the State of Alaska. We anticipate that each refuge will authorize approximately 20 permits each year. This is a total of 10,440 permits. We estimate that it takes an hour to complete the application requirements to supply the necessary information. Therefore the annual burden estimate in hours is 10,440.

Dated: September 6, 2001.
Rebecca A. Mullin,
Service Information Collection Clearance Officer.

[FR Doc. 01-25866 Filed 10-12-01; 8:45 am]

BILLING CODE 4310-55-P